DEPARTMENT OF ENERGY

Federal Energy Regulatory Commission

[Docket No. ER02-2475-001]

Pacific Gas and Electric Company; Notice of Filing

January 23, 2003.

Take notice that on December 6, 2002, Pacific Gas and Electric Company (PG&E) tendered for filing with the Federal Energy Regulatory Commission (Commission) a correction to the designation of a transmission rate adjustment in Second Revised PG&E Rate Schedule FERC No. 136, the PG&E-Sacramento Municipal Utility District (SMUD) Interconnection Agreement, accepted by the Commission in FERC Docket No. ER02-2475-000 on October 16, 2002.

PG&E has requested a waiver of the Commission's notice requirements to allow the effective date previously requested and accepted by the Commission for the corrected rate schedule sheet.

PG&E states that copies of this filing were served upon SMUD, the California Independent System Operator Corporation, the California Public Utilities Commission, and the official service list for FERC Docket No. ER02-2475-000.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: January 30, 2003.

Magalie R. Salas,
Secretary.

[FR Doc. 03-2132 Filed 1-28-03; 8:45 am]

BILLING CODE 6717-01-P